DEPARTMENT OF TRANSPORTATION

Federal Aviation Administration

14 CFR Part 97

[Docket No. 30285; Amdt. No. 2084]

Standard Instrument Approach Procedures; Miscellaneous Amendments

AGENCY: Federal Aviation Administration (FAA), DOT.

ACTION: Final rule.

SUMMARY: This amendment establishes, amends, suspends, or revokes Standard Instrument Approach Procedures (SIAPs) for operations at certain airports. These regulatory actions are needed because of the adoption of new or revised criteria, or because of changes occurring in the National Airspace System, such as the commissioning of new navigational facilities, addition of new obstacles, or changes in air traffic requirements. These changes are designed to provide safe and efficient use of the navigable airspace and to promote safe flight operations under instrument flight rules at the affected airports.

DATES: An effective date for each SIAP is specified in the amendatory provisions.

Incorporation by reference—approved by the Director of the Federal Register on December 31, 1980, and reapproved as of January 1, 1982.

ADDRESSES: Availability of matters incorporated by reference in the amendment is as follows:

For Examination—

1. FAA Rules Docket, FAA Headquarters Building, 800 Independence Avenue, SW., Washington, DC 20591;

2. The FAA Regional Office of the region in which the affected airport is located; or

3. The Flight Inspection Area Office which originated the SIAP.

For Purchase—Individual SIAP copies may be obtained from:

1. FAA Public Inquiry Center (APA-200), FAA Headquarters Building, 800 Independence Avenue, SW., Washington, DC 20591; or

2. The FAA Regional Office of the region in which the affected airport is located.

By Subscription—Copies of all SIAPs, mailed once every 2 weeks, are for sale by the Superintendent of Documents, U.S. Government Printing Office, Washington, DC 20402.

FOR FURTHER INFORMATION CONTACT: Donald P. Pate, Flight Procedure Standards Branch (AMCAFS-420), Flight Technologies and Programs Division, Flight Standards Service, Federal Aviation Administration, Mike Monroney Aeronautical Center, 6500 South MacArthur Blvd., Oklahoma City, OK 73169 (Mail Address: PO Box 25082, Oklahoma City, OK 73125), telephone: (405) 954-4164.

SUPPLEMENTARY INFORMATION: This amendment to part 97 of the Federal Aviation Regulations (14 CFR part 97) establishes, amends, suspends, or revokes Standard Instrument Approach Procedures (SIAPs). The complete regulatory description of each SIAP is contained in official FAA form documents which are incorporated by reference in this amendment under 5 U.S.C. 552(a), 1 CFR part 51, and § 97.20 of the Federal Aviation Regulations (FAR). The applicable FAA Forms are identified as FAA Forms 8260-3, 8260-4, and 8260-5. Materials incorporated by reference are available for examination or purchase as stated above.

The large number of SIAPs, their complex nature, and the need for a special format make their verbatim publication in the Federal Register expensive and impractical. Further, airmen do not use the regulatory text of the SIAPs, but refer to their graphic depiction on charts printed by publishers of aeronautical materials. Thus, the advantages of incorporation by reference are realized and publication of the complete description of each SIAP contained in FAA form documents is unnecessary. The provisions of this amendment state the affected CFR (and FAR) sections, with the types and effective dates of the SIAPs. This amendment also identifies the airport, its location, the procedure identification and the amendment number.

The Rule

This amendment to part 97 is effective upon publication of each separate SIAP as contained in the transmittal. Some SIAP amendments may have been previously issued by the FAA in a National Flight Data Center (NFDC) Notice to Airmen (NOTAM) as an emergency action of immediate flight safety relating directly to published aeronautical charts. The circumstances which created the need for some SIAP amendments may require making them effective in less than 30 days. For the remaining SIAPs, an effective date at least 30 days after publication is provided.

Further, the SIAPs contained in this amendment are based on the criteria contained in the U.S. Standard for Terminal Instrument Procedures (TERPS). In developing these SIAPs, the TERPS criteria were applied to the conditions existing or anticipated at the affected airports. Because of the close and immediate relationship between these SIAPs and safety in air commerce, I find that notice and public procedure before adopting these SIAPs are impracticable and contrary to the public interest and, where applicable, that good cause exists for making some SIAPs effective in less than 30 days.

Conclusion

The FAA has determined that this regulation only involves an established body of technical regulations for which frequent and routine amendments are necessary to keep them operationally current. It, therefore—(1) is not a “significant regulatory action” under Executive Order 12866; (2) is not a “significant rule” under DOT Regulatory Policies and Procedures (44 FR 11034; February 26, 1979); and (3) does not warrant preparation of a regulatory evaluation as the anticipated impact is so minimal. For the same reason, the FAA certifies that this amendment will not have a significant economic impact on a substantial number of small entities under the criteria of the Regulatory Flexibility Act.

List of Subjects in 14 CFR Part 97

Air traffic control, Airports, Navigation (air).

Issued in Washington, DC on December 21, 2001.
James J. Ballough,
Director, Flight Standards Service.

Adoption of the Amendment

Accordingly, pursuant to the authority delegated to me, part 97 of the Federal Aviation Regulations (14 CFR part 97) is amended by establishing, amending, suspending, or revoking Standard Instrument Approach Procedures, effective at 0901 UTC on the dates specified, as follows:

PART 97—STANDARD INSTRUMENT APPROACH PROCEDURES

1. The authority citation for part 97 is revised to read as follows:

Authority: 49 U.S.C. 106(g), 40103, 40113, 40120, 44701; and 14 CFR 11.49(b)(2).

2. Part 97 is amended to read as follows:

§§ 97.23, 97.25, 97.27, 97.29, 97.31, 97.33, and 97.35 [Amended]

By amending: § 97.23 VOR, VOR/DME, VOR or TACAN, and VOR/DME or TACAN: § 97.25 LOC, LOC/DME, LDA, LDA/DME, SDF, SDF/DME; § 97.27 NDB, NDB/DME; § 97.29 ILS, ILS/DME, ISMLS, MLS, MLS/DME, MLS/RNAV; § 97.31 RADAR SIAPs; § 97.33 RNAV SIAPs; and § 97.35 COPTER SIAPs, identified as follows:

* * * Effective February 21, 2002

Dillingham, AK, Dillingham, VOR RWY 1, Amdt 8

Dillingham, AK, Dillingham, VOR/DME RWY 19, Amdt 6

Dillingham, AK, Dillingham, LOC/DME RWY 19, Amdt 5

Dillingham, AK, Dillingham, NDB RWY 1, Amdt 1

Dillingham, AK, Dillingham, RNAV (GPS) RWY 1, Orig

Dillingham, AK, Dillingham, RNAV (GPS) RWY 19, Orig

Dillingham, AK, Dillingham, GPS RWY 1, Orig CANCELLED

Dillingham, AK, Dillingham, GPS RWY 19, Orig CANCELLED

Gustavus, AK, Gustavus, VOR/DME RWY 29, Orig-A CANCELLED

Gustavus, AK, Gustavus,VOR/DME RWY 29, Orig

Gustavus, AK, Gustavus, NDB-A, Orig

Gustavus, AK, Gustavus, RNAV (GPS) RWY 29, Orig

St. Paul Island, AK, St Paul Island, LOC/DME BC RWY 18, Amdt 2

St. Paul Island, AK, St Paul Island, RNAV (GPS) RWY 18, Orig

St. Paul Island, AK, St Paul Island, GPS RWY 18, Orig CANCELLED

Lancaster, CA, General William J. Fox Airfield, VOR-B, Amdt 3

Lancaster, CA, General William J. Fox Airfield, NDB-C, Amdt 3

Lancaster, CA, General William J. Fox Airfield, RNAV (GPS)-A, Orig

Sacramento, CA, Sacramento Mather, ILS RWY 22L, Amdt 2

Danielson, CT, Danielson, VOR-A, Amdt 6

Danielson, CT, Danielson, RNAV (GPS) RWY 31, Orig

Danielson, CT, Danielson, GPS RWY 31, Orig, CANCELLED

Brooksville, FL, Hernando County, NDB RWY 9, Amdt 6, CANCELLED

Marathon, FL, The Florida Keys Marathon, NDB OR GPS RWY 7, Amdt 3

Miami, FL, Miami, Intl, NDB RWY 27L, Amdt 20

Atlanta, GA, The William B. Hartsfield Atlanta Intl, VOR RWY 27L, Amdt 4B

Ames, IA, Ames Muni, VOR RWY 31, Amdt 10

Ames, IA, Ames Muni, NDB RWY 1, Amdt 2

Ames, IA, Ames Muni, ILS RWY 1, Amdt 1

Ames, IA, Ames Muni, RNAV (GPS) RWY 1, Amdt 1

Ames, IA, Ames Muni, RNAV (GPS) RWY 13, Orig

Ames, IA, Ames Muni, GPS RWY 13, Orig, CANCELLED

Ames, IA, Ames Muni, RNAV (GPS) RWY 19, Orig

Ames, IA, Ames Muni, GPS RWY 19, Orig, CANCELLED

Ames, IA, Ames Muni, RNAV (GPS) RWY 31, Orig

Ames, IA, Ames Muni, GPS RWY 31, Orig, CANCELLED

Audobon, IA, Audobon County, RNAV (GPS) RWY 32, Orig

Audobon, IA, Audobon County, GPS RWY 32, CANCELLED

Carroll, IA, Arthur N. Neu, NDB RWY 31, Amdt 7

Carroll, IA, Arthur N. Neu, RNAV (GPS) RWY 13, Orig

Carroll, IA, Arthur N. Neu, GPS RWY 13, Amdt 1, CANCELLED

Carroll, IA, Arthur N. Neu, RNAV (GPS) RWY 31, Orig

Carroll, IA, Arthur N. Neu, GPS RWY 31, Amdt 1, CANCELLED

Denison, IA, Denison Muni, RNAV (GPS) RWY 12, Orig

Denison, IA, Denison Muni, GPS RWY 12, Orig, CANCELLED

Denison, IA, Denison Muni, RNAV (GPS) RWY 30, Orig

Denison, IA, Denison Muni, GPS RWY 30, Orig, CANCELLED

Mason City, IA, Mason City Muni, RNAV (GPS) RWY 17, Orig

Mason City, IA, Mason City Muni, RNAV (GPS) RWY 35, Orig

Lousiville, KY, Louisville Intl-Standiford Field, VOR OR TACAN RWY 29, Amdt 22A, CANCELLED

Flint, MI, Bishop Intl, VOR RWY 9, Orig

Flint, MI, Bishop Intl, VOR RWY 9, Amdt 23, CANCELLED

Flint, MI, Bishop Intl, VOR, RWY 18, Orig

Flint, MI, Bishop Intl, VOR OR GPS RWY 18, Amdt 18, CANCELLED

Flint, MI, Bishop Intl, VOR RWY 27, Orig

Flint, MI, Bishop Intl, VOR OR GPS RWY 27, Amdt 20, CANCELLED

Flint, MI, Bishop Intl, VOR RWY 36, Orig

Flint, MI, Bishop Intl, VOR OR GPS RWY 36, Amdt 14, CANCELLED

Flint, MI, Bishop Intl, NDB RWY 9, Amdt 25

Flint, MI, Bishop Intl, ILS RWY 9, Amdt 22

Flint, MI, Bishop Intl, ILS RWY 27, Amdt 4

Flint, MI, Bishop Intl, RADAR-1, Amdt 8

Flint, MI, Bishop Intl, RNAV (GPS) RWY 9, Orig

Flint, MI, Bishop Intl, GPS RWY 9, Orig, CANCELLED

Flint, MI, Bishop Intl, RNAV (GPS) RWY 18, Orig

Flint, MI, Bishop Intl, RNAV (GPS) Y RWY 27, Orig

Flint, MI, Bishop Intl, RNAV (GPS) Z RWY 27, Orig

Flint, MI, Bishop Intl, RNAV (GPS) RWY 36, Orig

Lapeer, MI, Dupont-Lapeer, VOR-A, Orig

Lapeer, MI, Dupont-Lapeer, VOR OR GPS-A, Amdt 12, CANCELLED

Owosso, MI, Owosso Community, VOR/DME RWY 28, Orig

Owosso, MI, Owosso Community, VOR OR GPS RWY 28, Amdt 5A, CANCELLED

Owosso, MI, Owosso Community, RNAV (GPS) RWY 28, Orig

Sault Ste Marie, MI, Chippewa County Intl, NDB OR GPS RWY 34, Amdt 4C

Duluth, MN, Sky Harbor, RNAV (GPS) RWY 32, Orig

Duluth, MN, Sky Harbor, GPS RWY 32, Orig, CANCELLED

Park Rapids, MN, Park Rapids Muni-Konshok Field, VOR/DME OR GPS RWY 13, Amdt 8B

Park Rapids, MN, Park Rapids Muni-Konshok Field, NDB OR GPS RWY 31, Amdt 1B

Thief River Falls, MN, Thief River Falls Regional, NDB, OR GPS RWY 31, Amdt 1B

Warroad, MN, Warroad Intl-Swede Carlson Field, NDB OR GPS RWY 31, Amdt 1B

Worthington, MN, Worthington Muni, NDB OR GPS RWY 29, Orig-B

Whitefield, NH, Mount Washington, Regional, LOC RWY 10, Amdt 5

Whitefield, NH, Mount Washington, Regional, NDB RWY 10, Amdt 8

Whitefield, NH, Mount Washington, Regional, RNAV (GPS) RWY 10, Orig

Seneca Falls, NY, Finger Lakes Regional, RNAV (GPS) RWY 36, Orig

Liberty, NC, Causey, VOR OR GPS RWY 2, Amdt 4

Louisburg, NC, Franklin County, ILS RWY 4, Amdt 1

Salisbury, NC, Rowan County, RNAV (GPS) RWY 20, Orig

Block Island, RI, Block Island State, VOR/DME RWY 10, Amdt 5

Block Island, RI, Block Island State, RNAV (GPS) RWY 10, Orig

Muskogee, OK, Davis Field, GPS RWY 31, Orig-A

Okmulgee, OK, Okmulgee Muni, GPS RWY 17, Orig-A

Perry, OK, Perry Muni, GPS RWY 17, orig-A

Shawnee, OK, Shawnee Muni, GPS RWY 17, Orig-A

Medford, OR, Rouge Valley International-Medford, VOR/DME-C, Amdt 3

Medford, OR, Rouge Valley International-Medford, ILS RWY 14, Amdt 1

Medford, OR, Rouge Valley International-Medford, RNAV (GPS)-D, Orig

Medford, OR, Rouge Valley International-Medford, RNAV (GPS) RWY 14, Orig

Honey Grove, PA, EWT 4, Copter RNAV (GPS) 086, Orig

Block Island, RI, Block Island State, VOR/DME RWY 10, Amdt 5

Block Island, RI, Block Island State, RNAV (GPS) RWY 10, Orig

Columbia, SC, Columbia Metropolitan, RADAR-1, Amdt 11

Madisonville, TX, Madisonville Muni, VOR/DME RWY 18, Amdt 2

Madisonville, TX, Madisonville Muni, RNAV (GPS) RWY 18, Orig

Madisonville, TX, Madisonville Muni, RNAV (GPS) RWY 36, Orig

Madisonville, TX, Madisonville Muni, GPS RWY 36, Orig, CANCELLED

Palestine, TX, Palestine Muni, VOR/DME OR GPS RWY 17, Amdt 4A

Temple, TX, Draughon-Miller Central Texas Regional, VOR RWY 15, Amdt 17

Temple, TX, Draughon-Miller Central Texas Regional, VOR RWY 33, Amdt 3

Temple, TX, Draughon-Miller Central Texas Regional, ILS RWY 15, Amdt 11

Temple, TX, Draughon-Miller Central Texas Regional, RNAV (GPS) RWY 15, Orig

Temple, TX, Draughon-Miller Central Texas Regional, RNAV (GPS) RWY 33, Orig

Norfolk, VA, Chesapeake Regional, VOR/DME RWY 23, Orig

Norfolk, VA, Chesapeake Regional, VOR/DME RWY 23, Amdt 2D, CANCELLED

Norfolk, VA, Chesapeake Regional, LOC RWY 5, Orig

Norfolk, VA, Chesapeake Regional, LOC RWY 5, Amdt 2C, CANCELLED

Norfolk, VA, Chesapeake Regional, NDB RWY 5, Orig

Norfolk, VA, Chesapeake Regional, NDB RWY 5, Amdt 1C, CANCELLED

Norfolk, VA, Chesapeake Regional, RNAV (GPS) RWY 5, Orig

Norfolk, VA, Chesapeake Regional, GPS RWY 5, Amdt 1A, CANCELLED

[FR Doc. 02-51 Filed 1-2-02; 8:45 am]

BILLING CODE 4910-13-M